ENVIRONMENTAL PROTECTION AGENCY

[OPP-64049; FRL-6737-7]

Cancellation of Pesticides for Non-Payment of Year 2000 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15 has gone unpaid for about 984 registrations. Section 4(i)(5)(G) of FIFRA provides that the Administrator may cancel these registrations by order and without a hearing; orders to cancel all 984 of these registrations have been issued within the past few days.

FOR FURTHER INFORMATION CONTACT: For further information on the maintenance fee program in general, contact by mail: John Jamula, Office of Pesticide Programs (H7504C), Environmental Protection Agency, 1200 Pennsylvania Avenue NW, Washington, DC 20460. Office location, telephone number and e-mail address: Rm.226, Crystal Mall No. 2, 1921 Jefferson Davis Highway South, Arlington, VA 22202, (703) 305-6426; e-mail: jamula.john@epa.gov.

SUPPLEMENTARY INFORMATION:

I. General Information

A. Does this apply to me?

You may be potentially affected by this notice if you are an EPA registrant with any approved product registration(s). Although this action may be of particular interest to persons who produce or use pesticides, the Agency has not attempted to describe all the specific entities that may be affected by this action. If you have any questions regarding the information in this notice, consult the person listed under FOR FURTHER INFORMATION CONTACT.

B. How can I get additional information or copies of support documents:

1. Electronically. You may obtain electronic copies of this document, and certain other related documents that might be available electronically, from the EPA Internet Home page at http://www.epa.gov/. To access this document, on the Home Page select “Laws and Regulations,” “Regulations and Proposed Rules,” and then look up the entry for this document under the “Federal Register—Environmental Documents.” You can go directly to the Federal Register listings at http://www.epa.gov/fedrgstr/.

2. In person. The official record for this notice, as well as the public version, has been established under docket control number OPP-64049, (including comments and data submitted electronically as described below). A public version of this record, including printed, paper versions of any electronic comments, which does not include any information claimed as CBI, is available for inspection in Rm. 119, Crystal Mall #2, 1921 Jefferson Davis Highway, Arlington, VA, from 8:30 a.m. to 4:00 p.m., Monday through Friday, excluding legal holidays.

II. Introduction

Section 4(i)(5) of FIFRA as amended in October 1988, December 1991, and again in August 1996, requires that all pesticide registrants pay an annual registration maintenance fee, due by January 15 of each year, to keep their registrations in effect. This requirement applies to all registrations granted under section 3 as well as those granted under section 24(c) to meet special local needs. Registrations for which the fee is not paid are subject to cancellation by order and without a hearing.

The 1990 Farm Bill amended FIFRA to allow the Administrator to reduce or waive maintenance fees for minor agricultural use pesticides when she determines that the fee would be likely to cause significant impact on the availability of the pesticide for the use. The Agency has waived the fee for 126 minor agricultural use registrations at the request of the registrants.

In late November 1999, all holders of either section 3 registrations or section 24(c) registrations were sent lists of their active registrations, along with forms and instructions for responding. The registrants were asked to identify which of their registrations they wished to maintain in effect, and to calculate and remit the appropriate maintenance fees. Most responses were received by the statutory deadline of January 15. A notice of intent to cancel was sent in mid-February to companies who did not respond and to companies who responded, but paid for less than all of their registrations.

Since mailing the notices, EPA has maintained a toll-free inquiry number through which the questions of affected registrants have been answered.

Maintenance fees have been paid for about 15,932 section 3 registrations, or about 93 percent of the registrations on file in November. Fees have been paid for about 2,539 section 24(c) registrations, or about 88 percent of the total on file in November. Cancellations for nonpayment of the maintenance fee affect about 695 section 3 registrations and about 287 section 24(c) registrations.

The cancellation orders generally permit registrants to continue to sell and distribute existing stocks of the canceled products until the due date for the next annual registration maintenance fee, January 15, 2001. Existing stocks already in the hands of dealers or users, however, can generally be distributed, sold or used legally until they are exhausted. Existing stocks are defined as those stocks of a registered pesticide product which are currently in the U.S. and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-Payment

Table 1 lists all of the section 24(c) registrations.

Table 1.—Section 24(c) Registrations Canceled for Non-Payment of the 2000 Maintenance Fee
24(c) No. | Product Name
AR-95-0005 | Cotoron Accu-Pak
AR-95-0007 | Cotoran 4L Herbicide
AR-95-0008 | Cotoran DF
AR-98-0001 | Tilt Fungicide
CO-97-0003 | Mefenoxam EC
CO-98-0012 | Alamo Fungicide
CO-98-0013 | Alamo Fungicide
FL-92-0005 | Supracide 2E Insecticide-Miticide
GA-95-0001 | Zorial Rapid 80
IA-98-0003 | Apron Maxx RTA
ID-93-0003 | Supracide 2E Insecticide-Miticide
IL-98-0001 | Tilt Fungicide
IN-95-0001 | Princep Caliber 90 Herbicide
KS-99-0002 | Apron Maxx RTA
LA-93-0015 | Princep 4L Herbicide
LA-94-0003 | Cotoran DF
LA-94-0004 | Cotoran 4L Herbicide
LA-95-0004 | Cotoron Accu-Pak
MN-98-0001 | Alamo Fungicide
MS-89-0009 | Cotoran DF
MS-89-0010 | Cotoran 4L Herbicide
MS-95-0009 | Cotoran Accu-Pak
MS-98-0013 | Apron Maxx RTA
NE-99-0001 | Apron Maxx
NY-94-0002 | Beacon Herbicide
NY-97-0001 | Exceed Herbicide
NY-97-0002 | Exceed Herbicide
OR-90-0024 | Solicam DF Herbicide
OR-97-0015 | Caparol 4L Herbicide
OR-98-0021 | Supracide 25WP Insecticide-Miticide
OR-99-0022 | Maxim—MZ Potato Seed Protectant
WA-90-0032 | Solicam DF Herbicide
CA-88-0019 | Rovral Fungicide
HI-94-0004 | Ethrel Ethephon Plant Regulator
MI-86-0005 | Larvin 3.2 Thiodicarb Insecticide Aqueous Flowable
NC-96-0003 | Sevin Brand XLR Carbaryl Insecticide
OH-96-0003 | Sevin Brand XLR Carbaryl Insecticide
OR-81-0055 | Rovral Fungicide
OR-95-0006 | Sevin Brand XLR Carbaryl Insecticide
PA-96-0002 | Sevin Brand XLR Carbaryl Insecticide
VA-95-0001 | Sevin Brand XLR Carbaryl Insecticide
WA-81-0052 | Rovral Fungicide
WI-88-0011 | Butyrac 200 Broadleaf Herbicide
WI-92-0008 | Buctril Herbicide
AL-91-0003 | Thiodan 3 E.C. Insecticide
AL-94-0009 | Talstar Granular
AR-87-0006 | Talstar 10WP Insecticide/miticide
AR-90-0003 | Thiodan 3 E.C.
AZ-85-0006 | Pounce 3.2 EC Insecticide
AZ-91-0002 | Talstar 10WP Insecticide/miticide
AZ-93-0016 | Thiodan 2 C.O. EC Insecticide
AZ-95-0005 | Capture 2 EC Insecticide/miticide
CA-76-0127 | Thiodan 50WP Insecticide
CA-94-0006 | Thiodan 3 E.C.
CA-97-0028 | Thiodan 2 C.O. EC Insecticide
CT-88-0010 | Talstar 10WP Insecticide/miticide
CT-96-0001 | Talstar 10WP Insecticide/miticide
DE-88-0001 | Talstar 10WP Insecticide/miticide
DE-92-0001 | Furadan 4F
FL-93-0007 | Pounce 3.2 EC Insecticide
FL-94-0009 | Talstar T&O Granular Insecticide
FL-94-0010 | Talstar T&O Flowable
GA-90-0009 | Thiodan 3 E.C.
GA-93-0002 | Talstar 10WP Insecticide/miticide
HI-93-0002 | Talstar Flowable Insecticide/mitacide
IA-88-0003 | Talstar 10WP Insecticide/miticide
ID-77-0009 | Thiodan 3 E.C.
IL-93-0004 | Talstar 10WP Insecticide/miticide
IN-88-0017 | Talstar 10WP Insecticide/miticide
IN-89-0003 | Thiodan 3 E.C.
KY-89-0002 | Thiodan 3 E.C.
LA-93-0002 | Talstar 10WP Insecticide/miticide
LA-93-0021 | Furadan 4F
ME-93-0005 | Talstar 10WP Insecticide/miticide
MI-90-0002 | Talstar 10WP Insecticide/miticide
MI-91-0004 | Thiodan 3 E.C. Insecticide
MO-88-0004 | Talstar 10WP Insecticide/miticide
MS-87-0004 | Talstar 10WP Insecticide/miticide
MS-90-0003 | Thiodan 3 E.C.
MS-95-0003 | Talstar Granular
MS-95-0004 | Talstar Flowable Insecticide/miticide
MT-79-0024 | Thiodan 3 E.C.
MT-93-0006 | Talstar 10WP Insecticide/miticide
NC-87-0002 | Talstar 10WP Insecticide/miticide
ND-98-0003 | Thiodan 3 EC Insecticide
NJ-93-0001 | Talstar 10WP Insecticide/miticide
NM-87-0005 | Talstar 10WP Insecticide/miticide
NV-91-0001 | Talstar 10WP Insecticide/miticide
OH-89-0006 | Thiodan 3 E.C.
OH-90-0002 | Talstar 10WP Insecticide/miticide
OR-95-0007 | Thiodan 3 EC Insecticide
PA-89-0004 | Talstar 10WP Insecticide/miticide
PA-92-0002 | Thiodan 3 E.C.
RI-94-0001 | Talstar 10WP Insecticide/miticide
SC-87-0002 | Talstar 10WP Insecticide/miticide
SC-91-0001 | Thiodan 3 E.C.
TN-90-0002 | Thiodan 3 E.C.
TN-91-0001 | Talstar 10WP Insecticide/miticide
TN-93-0001 | Talstar 10WP Insecticide/miticide
TN-96-0005 | Talstar 10WP Insecticide/miticide
TX-90-0011 | Talstar 10WP Insecticide/miticide
UT-91-0004 | Talstar 10WP Insecticide/miticide
VA-87-0001 | Talstar 10WP Insecticide/miticide
VA-92-0007 | Thiodan 3 E.C.
VT-93-0001 | Talstar 10WP Insecticide/miticide
WA-89-0004 | Talstar 10WP Insecticide/miticide
WA-91-0029 | Thiodan 3 E.C.
WA-92-0001 | Thiodan 3 E.C. Insecticide
WI-91-0007 | Talstar 10WP Insecticide/miticide
WI-92-0007 | Thiodan 3 E.C.
MT-82-0012 | Dupont Velpar L Weed Killer
NY-93-0004 | Harmony Extra Herbicide
NY-97-0008 | Dupont Fortress 5g Granular Insecticide
OR-78-0004 | Du Pont Lannate Methomyl Insecticide
AL-80-0010 | Terraclor Emulsifiable Soil Fungicide
GA-81-0003 | Terraclor 2 Lb Emulsifiable Soil Fungicide
GA-89-0003 | Terraclor 10% Granular Soil Fungicide
GA-94-0007 | Terraclor 4F
ID-76-0001 | Vitavax Flowable Fungicide
OK-84-0008 | Terraclor 75% Wettable Powder
OK-84-0009 | Terraclor 2 Lb Emulsifiable Soil Fungicide
OK-84-0011 | Mathieson Terraclor 10% Granular
OK-94-0001 | Terraclor Flowable Fungicide
TX-78-0043 | Mathieson Terraclor 10% Granular
TX-79-0017 | Olin Terraclor 75% Wettable Powder
TX-84-0015 | Terraclor 2 Lb Emulsifiable Soil Fungicide
TX-94-0004 | Terraclor Flowable Fungicide
WA-76-0037 | Vitavax Flowable Fungicide
WA-76-0038 | Vitavax-200 Flowable Fungicide
AR-94-0006 | Goal 1.6E Herbicide
AZ-95-0008 | Goal 1.6E Herbicide
HI-84-0006 | Goal 1.6E Herbicide
LA-98-0004 | Nova 40W Agricultural Fungicide In Water Soluble Pouche
MI-89-0008 | Goal 1.6E Herbicide
MI-89-0009 | Goal 1.6E Herbicide
MS-94-0001 | Goal 1.6E Herbicide
MT-93-0004 | Goal 1.6e Herbicide
PA-96-0001 | Goal 1.6e Herbicide
SC-88-0004 | Goal 1.6e Herbicide
SC-91-0002 | Goal 1.6e Herbicide
SC-94-0002 | Goal 1.6e Herbicide
TN-94-0004 | Dithane DF Agricultural Fungicide
WA-91-0012 | Goal 1.6E Herbicide
WA-96-0005 | Goal 1.6E Herbicide
ME-97-0001 | Super Tin 80WP
MI-97-0001 | Super Tin 80WP
MN-97-0003 | Super Tin 80WP
ND-97-0004 | Super Tin 80WP
NE-98-0001 | Super Tin 80WP
OR-97-0021 | Super Tin 80WP
WA-97-0035 | Super Tin 80WP
WI-97-0005 | Super Tin 80WP
MT-91-0006 | Amine 400 2,4-D Weed Killer
OR-94-0007 | Embark 2-S Plant Growth Regulator
WY-92-0003 | Zinc Phosphide Bait
WA-88-0025 | Dimethogon 267 EC
ID-83-0035 | Di-Syston 15% Granular Systemic Insecticide
ID-90-0002 | Turbo 8 EC
NJ-94-0003 | Guthion 50% Wettable Powder Crop Insecticide In Water
OR-79-0042 | Di-Syston 15% Granular Systemic Insecticide
OR-83-0057 | Di-Syston 15% Granular Systemic Insecticide
PR-91-0005 | Nemacur 3
PR-91-0006 | Nemacur 15% Granular
CA-97-0031 | Topsin M WSB
CO-98-0009 | Hydrothol 191
NE-97-0003 | Hydrothol 191
NJ-97-0006 | Penncap—Microencapsulated Insecticide
OR-79-0075 | Herbicide 273
WI-97-0003 | Topsin M WSB
CT-94-0003 | Parapel II
AR-95-0010 | Facet 75 DF Herbicide
AZ-95-0003 | Banvel Herbicide
CO-92-0004 | Banvel Herbicide
CO-93-0002 | Banvel Herbicide
CO-94-0005 | Banvel Herbicide
CO-98-0008 | Banvel Herbicide
FL-99-0009 | Basf Poast Herbicide
ID-90-0004 | Banvel SGF Herbicide
ID-90-0013 | Banvel Herbicide
KS-90-0002 | Banvel Herbicide
MT-91-0003 | Banvel SGF Herbicide
MT-91-0005 | Banvel Herbicide
NC-93-0004 | Basf Poast Herbicide
ND-89-0001 | Banvel Herbicide
ND-94-0003 | Banvel Herbicide
ND-94-0005 | Banvel Herbicide
NE-90-0001 | Banvel Herbicide
NJ-94-0007 | Banvel Herbicide
NJ-97-0007 | Banvel Herbicide
OK-81-0004 | Banvel D Herbicide
OK-84-0010 | Banvel Herbicide
OK-85-0008 | Banvel Herbicide
OR-90-0011 | Banvel Sgf Herbicide
OR-90-0013 | Banvel Herbicide
SC-90-0005 | Ronilan Fungicide 50W
SC-94-0004 | Basf Poast Herbicide
SD-94-0002 | Banvel Herbicide
TX-86-0006 | Banvel Herbicide
TX-92-0018 | Banvel Herbicide
UT-95-0001 | Banvel Herbicide
WA-90-0014 | Banvel SGF Herbicide
WA-91-0032 | Banvel Herbicide
AL-95-0002 | Imidan 70-WSB
AL-97-0002 | Imidan 70-WSB
AR-95-0001 | Imidan 70-WSB
AR-96-0001 | Imidan 70-WSB
AZ-92-0006 | Ambush 0.5% Bait
AZ-94-0008 | Gowan Azinphos—M 50 WSB
CA-94-0026 | Ambush 0.5% Bait
CA-97-0029 | Gowan Malathion 5 Dust
LA-95-0008 | Imidan 70-WSB
LA-97-0005 | Imidan 70-WSB
NV-99-0002 | Supracide 25WP Insecticide-Miticide
NV-99-0003 | Supracide 25WP Insecticide-Miticide
OR-94-0022 | Botran 75 W
TN-98-0006 | Imidan 70-WSB
UT-92-0002 | Gowan Dimethoate E267
KY-95-0001 | Gramoxone Extra Herbicide
MI-91-0009 | Gramoxone Extra Herbicide
WA-97-0028 | Ambush Insecticide
ME-94-0001 | Pronone 10G
HI-88-0004 | Superior 70 Oil
ID-99-0020 | Clean Crop Supreme Oil
WA-92-0018 | Purechlor Sanitizer 12.5%
NC-78-0002 | Dupont Lexone 4L Metribuzin Weed Killer
MS-94-0002 | 2,4-D Amine No. 4 Herbicide
IN-97-0004 | Carzol SP In Water Soluble Packaging
NC-97-0002 | Carzol SP In Water Soluble Packaging
OH-97-0008 | Carzol SP In Water Soluble Packaging
SC-97-0007 | Carzol SP In Water Soluble Packaging
TX-98-0008 | Carzol SP In Water Soluble Packaging
UT-92-0001 | Carzol SP
NJ-93-0005 | Ferbam Granuflo
WA-98-0030 | Saf-T-Oil
AL-90-0003 | Bravo 720
GA-77-0007 | Dsma Liquid
GA-77-0008 | Bueno-6
GA-96-0005 | Bueno-6
NC-77-0018 | Bueno-6
NC-92-0012 | Bravo 720
NC-95-0007 | Bravo 720
NC-95-0008 | Bravo 825
OR-77-0025 | Bueno-6
OR-77-0060 | Bravo 500 Agricultural Fungicide
OR-77-0061 | Daconil 2787 Flowable Fungicide
OR-81-0032 | Bravo 500 Agricultural Fungicide
OR-86-0005 | Bravo 500
OR-94-0010 | Daconil 2787 Flowable Fungicide
OR-96-0001 | Bravo 720
OR-96-0002 | Bravo 825
OR-96-0014 | Bravo 720
OR-96-0015 | Bravo 825
OR-96-0016 | Bravo 720
OR-97-0025 | Bravo 720
PR-83-0002 | Bravo 500 Agricultural Fungicide
WA-88-0013 | Bravo 720
WA-95-0036 | Bravo 720
WA-96-0012 | Bravo 825
WA-96-0013 | Bravo 720
WA-96-0015 | Bravo 720
CA-99-0017 | Slam
CA-99-0018 | Slam
CA-99-0019 | Slam
CA-99-0020 | Slam
FL-96-0010 | Gibgro 4LS
AZ-98-0011 | Tri-Clor Fumigant
CA-83-0056 | Geigy Diazinon 14G (14.3% Granular) Insecticide
FL-91-0010 | Margosan-O Botanical Insecticide Concentrate
CA-97-0012 | Zephyr 0.15 EC
CA-89-0029 | Thiram 50 WP Dyed
NY-98-0003 | Dual 8E Herbicide
FL-91-0001 | Dual 8E Herbicide
FL-95-0003 | Dual 8E Herbicide
FL-97-0012 | Dual 8E Herbicide
FL-94-0006 | Hivol 44
WA-91-0026 | Vinco Formaldehyde Solution
AZ-92-0005 | Thiram 50 WP
HI-91-0002 | Meth-O-Gas
OR-95-0036 | Selected Herbicide
IA-98-0001 | Mertect (r) 340-F Fungicide
WA-98-0021 | Kaligreen
MS-99-0004 | Sanitizer 3134
CA-98-0004 | Pro-Gibb 4% Liquid Concentrate
OR-98-0014 | Clorox
OR-98-0018 | Clorox
CA-99-0014 | Pro-Gibb 4% Liquid Concentrate
CA-99-0021 | Sunny Sol 150

Table 2 lists all of the section 3 registrations which were canceled for non-payment of the 2000 maintenance fee. These registrations have been canceled by order and without hearing. Cancellation orders were sent to affected registrants via certified mail in the past several days. It is the Agency policy to rescind cancellation of any particular registration only if the cancellation resulted from the Agency error.

Table 2.—Section 3 Registrations Canceled for Non-Payment of the 2000 Maintenance Fee
Reg. No. | Product Name
000016-00153 | Dragon Scat Cat Repellent
000100-00756 | Aatrex Accu-Pak
000100-00825 | Maxim C 0.33% Ds Potato Seed Protectant
000100-00844 | Mondak Herbicide
000116-00016 | Germex 20% Quaternary Ammonium Compound
000134-00057 | Residual Fly Spray 2EC
000168-00372 | Chlorine
000270-00053 | Farnam Ready-To-Use Stable and Horse Fly Spray
000270-00264 | Purina Dog Shampoo
000270-00267 | Farnum Hard Hitter 5.7%
000270-00270 | Priority Flea and Tick Pyrethrin Dip for Dogs and Cats
000270-00271 | Purina Flea and Insect Carpet Dust
000270-00272 | TPC Sevin 5% Dust
000270-00277 | Owner's Choice Flea and Tick Shampoo
000270-00284 | Security Brand Cygon* 2-E Systemic Insecticide
000270-00285 | Security Brand Fungi-Gard
000270-00287 | Security Brand Systemic Rose and Flower Booster
000270-00291 | Security Brand Malathion Multi-Purpose Spray
000270-00292 | Chacon Systemic Granular Insecticide for House Plants
000270-00298 | Security Pressurized Garden Spray
000270-00299 | Security 0.25% Permethrin Ready To Use
000270-00303 | Farnam Water-Based Diazinon Cocentrate
000275-00105 | Gibrel for Manufacturing Use
000275-00106 | 2% Liquid Gibrel
000275-00107 | Gibrel Powder 5%
000275-00115 | Skeetal Flowable Concentrate
000275-00125 | Bactimos Primary Powder
000279-02735 | Thiodan Pyrenone C.O. EC
000279-02822 | Thiodan 2 Pyrenone 0.3-0.03 EC Insecticide
000283-00003 | Solu Styril Germicide Solution
000334-00291 | Hykil Aerosol Insect Killer
000334-00526 | I-Sect Aqueous Pressurized Spray for House and Garden
000334-00562 | Kil-R Fog-R Total Release Fogging Insecticide
000334-00570 | Aqua-Kill Residual Ant and Roach Killer
000400-00178 | Casoron 10G
000400-00462 | Technical Dichlobenil
000400-00463 | Casoron 85W
000402-00103 | Hill #5031 Hilco Tox Aerosol
000402-00121 | No. 2222 Hilco Strike
000407-00435 | Rat and Mouse Killer
000432-00622 | Chlorpyrifos/esbiothrin Insecticide Trans. Emulsion Spray 0.5% + 0.05%
000432-00645 | Chlorpyrifos/esbiothrin Bug Killer 0.5% + 0.05%
000432-00648 | Ultratec Insect. W/sbp-1382 Chlorpyrifos Transp. Emulsion 3.2%-16%
000432-00658 | Chlorpyrifos/esobiothrin Trans. Emulsion Spray 0.25% + 0.025%
000432-00659 | Crossfire-D Tedc W/chlorpyrifos/esbiothrin 25%+2.5% Transp. Emulsion Concentrate
000432-00660 | Ultratec Insecticide W/chlorpyrifos Transp Emulsion Dilutable Concentrate 25%
000432-00681 | Ultratec Insect. /chlorpy/pyreth/pip.but. /trans.em.conc.15%+1.5%+7.5%
000478-00107 | Real-Kill Extra Action Bug Killer
000478-00110 | Real-Kill Household Ant and Roach Killer
000478-00111 | Real-Kill Household Extra Strength Roach and Ant Killer
000478-00116 | Real-Kill Ant and Roach Killer
000498-00110 | Spraypak Professional Strength Kill-M Insecticide
000498-00158 | Spraypak Wasp Long Range Jet Spray Formula 5
000499-00210 | Whitmire PT 1300
000499-00272 | Whitmire Pt 265a Knox Out Plus
000499-00447 | Timed-Release Yard and Kennel Concentrate
000499-00457 | Warrior Dual Action Roach Bait I
000499-00466 | Pro-Control Treatment for Crawling Insects
000506-00143 | Tat-1 Ant Trap
000527-00081 | Mill-O-Cide 300
000527-00089 | Mill-O-Cide 500
000527-00128 | Hydro-Cide Residual
000572-00204 | Rockland 8% Sevin(r) Brand Carbaryl Insecticide Granular
000572-00261 | Rockland Summer Green with Dursban
000655-00693 | Prentox Pet Rinse Concentrate
000706-00059 | Claire Fast Kill Residual Roach and Ant Killer
000706-00076 | Claire Spray Nox II Insect Killer
000706-00091 | Fast Kill II
000706-00098 | Fly Jinx II
000707-00201 | Kelthane 4F Flowable Agricultural Miticide
000748-00303 | Ppg Performance Blend
000773-00062 | Thionium Shampoo with Expar
000773-00080 | Expar Plus 4
000829-00215 | SA-50 Brand 7 1/2% Captan Fungicide Dust
000829-00237 | SA 50 Brand Diazinon 14G Granular Insecticide
000875-00081 | Spartec Quaternary Ammonium Sanitizer, Disinfectant
000901-00037 | Insect Repellent Type II Solution A
000928-00005 | Original Carbolineum
001021-01185 | Pyrocide Mosquito Adulticiding Concentrate for ULV Fogging, F-7088
001021-01237 | MGK Esbiol TM Intermediate 1970
001021-01251 | MGK Esbiol Intermediate 1972
001021-01344 | D-Trans Intermediate 2029
001021-01382 | Insecticide Aerosol D-Phenothrin 2%
001021-01408 | Flying Insect Killer Made From Mgk Esbiol Intermed. 1970
001021-01412 | Wasp and Hornet Killer Made From Esbiol Intermediate 1970
001021-01413 | Esbiol Industrial and Household Space and Contact Spray 2201
001021-01418 | Esbiol Industrial and Household Space and Contact Spray 2213
001021-01447 | Esbiol Conc. Industrial and Household Space and Contact Spray 2258
001021-01449 | D-Trans Concentrated Industrial and Household Spray 2257
001021-01457 | Esbiol Concentrate 2243
001021-01467 | Multicide Intermediate 2188
001021-01471 | Esbiothrin Intermediate 2278
001021-01482 | Multicide Concentrate 2295
001021-01537 | Evercide Fenvalerate 80% Concentrate 2384
001021-01540 | Evercide Intermediate 2382
001021-01554 | Evercide Intermediate 2443
001021-01555 | Multicide Intermediate 2442
001021-01578 | Evercide Intermediate 2489
001021-01616 | Evercide Concentrate 2576
001021-01650 | Esbiol Wasp and Hornet Killer
001022-00015 | Penta Preservative Concentrate 1-10 Wood Preservative
001022-00016 | Penta Preservative Ready-To-Use Wood Preservative
001022-00046 | Pol-NU
001022-00068 | Penta-WR Concentrate 1 To 5 Wood Preservative
001022-00120 | Penta Plus 40 Wood Preservative
001022-00240 | Pol-Nu-Pak
001022-00356 | Penta Wr Ready To Use Wood Preservative
001022-00408 | Pol-Nu 15-15 Penta Preservative Grease with Creosote Added
001022-00438 | Permatox Penta
001022-00446 | Industrial Penta Solution-7
001022-00469 | Industrial Penta Solution-10
001022-00537 | Industrial Penta Solution-5
001057-00064 | Dolge General Purpose Aqueous Pyrethrum Insecticide
001117-00059 | Nolvacide Mist Insecticide Spray II W/nolvasan
001130-00016 | Burnishine Products Sanitizer Solution
001203-00069 | Foremost 4891-ES Fly-Kill
001258-00428 | Hth Dry Chlorinator Tablets for Swimming Pools
001258-01151 | Ecolin-1
001258-01175 | CDB Clearon 14g Tablets
001258-01187 | Thrifty Sticks
001258-01201 | Pulsar Plus Tablets 60
001258-01202 | Hth Duration Tablets 60
001270-00047 | Zepomist Bacteriostatic Liquid Dustmop Treatment
001270-00153 | Zeposector 2 Pressurized Spray Insecticide
001270-00163 | Zep Pine-O-Fect
001270-00170 | Zep X-24272 Insecticide
001270-00175 | Zepsecure
001270-00185 | Zep Super-2
001270-00252 | Zep Tox III Wasp and Hornet Killer
001275-00018 | Santerge
001304-00063 | Mcness Rabon 7.76 Oral Larvicide Premix Cattle and Swine
001304-00066 | Mcness Stock Cow Vitamin and Mineral Mix with Rabon
001304-00068 | Mcness Stock Cow Vitamin and Mineral Mix with Magnesium and Rabon
001381-00147 | Class Diazinon EC
001381-00148 | Class Diazinon 14G
001386-00633 | Smith-Douglass 10% Sevin Dust
001459-00021 | Bullen Pine Oil Disinfectant
001459-00026 | Ack-Ack Insect Spray
001459-00038 | Bullen Compactor and Kitchen Insecticide
001459-00042 | Fast Acting Residual Spray
001459-00047 | C-1000 Disinfectant Sanitizer Deodorizer
001459-00068 | Activ VIII 28 Detergent/disinfectant
001459-00073 | Lemo-Dis
001459-00078 | Bullen Swimming Pool Algaecide
001459-00082 | Activ VIII 2560
001459-00086 | Activ VIII 1280
001459-00087 | Activ VIII 420
001459-00092 | Sept One 400
001459-00093 | Septin PF 400
001459-00102 | Bullen Flea and Tick Shampoo
001459-00103 | All-N-One Cleaner Disinfectant Deodorizing Wax Finish
001459-00104 | General Purpose Aqueous Insecticide
001459-00105 | Concentrated Flea and Tick Dip for Dogs and Cats
001459-00106 | Capture
001459-00107 | Quat III
001603-00006 | Reefer-Galler Snowhite Crystals
001603-00008 | Reefer-Galler No Moth Decorator Hang-Up Container
001683-00023 | Pine Oil Disinfectant Coef. 5
001685-00075 | Formula 300 Swimming Pool Algaecide
001685-00094 | State Formula 401 Ready Kill with Dursban
001717-20001 | Sodium Hypochlorite Solution
001803-00023 | Con-O Chlor
001812-00364 | Cyanazine Technical
001812-00365 | CY-Pro 90df Herbicide
001812-00366 | Cynex 4l
001812-00367 | Cy-Pro AT 4l Herbicide
001812-00368 | Cy-Pro AT DF Herbicide
001910-00002 | Fly Repellent Spray
001910-00004 | Aqua-Shield Fly Repellent Spray
001965-00026 | Vancide 51Z Dispersion
002217-00143 | 57% Malathion Emulsifiable Concentrate
002217-00282 | New Ddvp Fly Bait
002217-00345 | 50% Malathion Emulsifiable Concentrate
002217-00355 | 50% Malathion Garden Spray
002217-00366 | Sevin 50W Insecticide
002217-00383 | Sevin Dust 5%
002217-00389 | Gordon Chemicals Sevin 50W Spray A Wettable Powder
002217-00450 | Vapona Show-Coat Dairy Cattle Spray
002217-00470 | Alfa-Spray
002217-00572 | Gordon's Sevin Dust 5% A Multi-Purpose Insecticide
002217-00600 | Liquid Sevin Spray
002217-00638 | Gordon's Diazinon 25% Emulsifiable
002217-00664 | Spreader King Dursban Lawn Insecticide
002217-00679 | Acme Norosac 10G
002217-00777 | Pre-San Emulsifiable
002311-00004 | Gld Germicidal Liquid Detergent
002311-00007 | Pine Oil Disinfectant
002620-00059 | Liquid Roach Spray
002724-00449 | Zoecon 8718 EW
002792-00029 | Cucumber and Pepper Lustr 223 with Fungicide
002792-00030 | Decco Food Grade Peach, Nectarine and Plum Wax Concentrate WT-12
002792-00031 | Tomato Lustr 222
002935-00084 | Red-Top Malathion 25 Spray Powder
002935-00284 | Dibrom 8 Spray
002935-00431 | Diazinon 50W
002935-00435 | Wilbur Ellis Systemic 10G
002935-00517 | Cygon 2-E Systemic Insecticide-Miticide
002935-00518 | Cygon 267 Systemic Insecticide-Miticide
002935-00519 | Cygon Systemic 25 Insecticide-Miticide
002935-00531 | John Taylor Chemical 5% Sevin Bait
003008-00013 | Osmoplastic-F
003008-00056 | Osmoplastic-D Wood Preserving Compound
003125-00126 | Di-Syston Systemic
003125-00176 | Baygon Household Insect Residual Spray (pressurized)
003125-00177 | Baygon Household Insect Spray
003125-00262 | Baygon 1% Household Insect Residual Spray (pressurized)
003125-00344 | Baygon 0.5% Aqueous Insecticide
003125-00345 | Baygon 0.5% Aqueous Pressurized Insect Spray
003215-00004 | Water Repellent Wood Preserver
003546-00028 | Sport Mosquito and Tick Stop
003546-00029 | Blast Roach Erase II
003546-00034 | Lynwood Multi-Purpose Insect Killer
003635-00262 | D-Sect Bulk Insect Killer
003635-00266 | QD-4
003635-00272 | Dutoxide
003635-00280 | Aqua-Mint
003635-00281 | Oxford San-Kleen
004170-00009 | Betco Mint
004170-00055 | Best Bet
004170-00083 | Betco Lemon
004306-00010 | Sulfodene Scratchex Power Dust
004313-00063 | Carroll Quat 9.0
004313-00090 | Residual Crawling and Flying Insect Killer
004581-00223 | Herbicide 273
004691-00138 | Flea and Tick Powder for Dogs and Cats
004875-00005 | Sterine 100
004875-00022 | Indco LF 13
005185-00114 | Bio-Guard Status Quo Chlorinating Cartridge
005185-00143 | Bioguard Spot Kill Super Algae Destroyer
005185-00159 | Bioguard Stingy Stick Chlorine Cartridges
005185-00194 | Spot Kill Algae Destroyer
005185-00275 | Bio-Guard Clc Calcium Hypochlorite
005185-00315 | Lok Up Winter Shock
005185-00316 | Spa Guard Chlorinated Concentrate
005185-00318 | Tower Chlor Chlorinating Tablets
005185-00319 | Bio-Guard Super OX-11
005185-00321 | Bio-Guard Super OX 1
005185-00335 | Bioguard Lok-Up Wintertrol Winter Algicide
005185-00336 | Bioguard Lok-Up Winter Shock II
005185-00337 | Bioguard Algae All 10
005185-00340 | Bio Guard Lithium Hypochlorite
005185-00370 | Bioguard Tabgard Pucks
005185-00416 | King Size Tabs
005185-00419 | Fast Shock
005185-00422 | Spa Brom Mini Pak II
005185-00432 | Photobrome Lab Pak II
005185-00437 | Aquabrome II Tablets
005185-00438 | Brominating Cartridge System
005383-00093 | Troy Polyphase 624
005383-00094 | Troysan Polyphase 597
005383-00097 | Mergal S 89r Paste
005383-00098 | Mergal S 90R
005813-00046 | Reko Scientific Flush-All
005815-00028 | Forest City Weed Killer 2,4-D
006109-00019 | Sanisorb
006175-00016 | Veterinary Hospital and Kennel Spray
006175-00019 | Otocide
006175-00027 | Stable Concentrate
006175-00034 | Indoor Flea and Tick Spray with Dursban
006269-00001 | Purinse
006269-00007 | Eto-6 Insect Spray
006552-00012 | Kay Dee Rabon Mineral Meal 10
006552-00013 | Kay Dee Rabon Mineral Block 6
006884-00002 | Vi-Lan Bact. Clean
007001-00329 | Turf Disease Control 5% Granular
007056-00100 | Csa Liquid Pet Spray
007116-00013 | Merit
007122-00042 | Guardian Malathion We Emulsifiable Concentrate 50%
007122-00048 | Guardian Pyrethrin Emulsifiable Concentrate No. 6600 (synergized)
007122-00068 | Guardian Chlorpyrifos 2E
007122-00110 | Guardian Diazinon 4 Lb Concentrate WE
007234-00016 | Penwar 1-5 Wood Preservative Concentrate
007234-00060 | Pentacon-5
007401-00127 | Ferti Lome Complete Rose Spray
007546-00025 | Totil Plus
007754-00054 | Ari Flea and Tick Spray IV
007754-00055 | Ari Flea and Tick Fogger IV
007946-00012 | Carboject
007946-00017 | Propisol
007946-00022 | Imicide (tm) 15
008033-00004 | Nisso TCCA - 90
008033-00005 | Nisso SDIC-60
008033-00006 | Nisso SDIC-55
008112-00003 | Lion Mat F
008419-00017 | The Andersons Crabgrass Preventer with Balfin
008428-00012 | SC-760 Iodophor Sanitizing Detergent
008540-00020 | Garret-Callahan Formula 38-A
008540-00022 | Garratt-Callahan Formula 39
008576-00014 | Callaway Bleach
008576-20004 | Sodium Hypochlorite - 5.25%
008590-00067 | 70 Spray Oil E
008591-00010 | Ag-415
008591-00017 | Ag-452
008591-00039 | Fuel Preserve
008591-20001 | Ag-494
008591-20006 | A-495
008660-00136 | Greenup Ant, Roach and Insect Powder
008845-00034 | Kenco Rid-A-Bug Fire Ant Killer
008845-00041 | Rid-A-Bug Outdoor Insect Barrier Granular Insect Killer
008845-00085 | Hot Shot Fire Ant Killer, Formula 901
008845-00121 | Hot Shot Roach and Ant Killer Formula WB-I
009198-00008 | Weed N'Feed 10-6-4
009198-00026 | Turf-Care for Professional Lawn Maintenance W/1.2% Dursban Insecticide
009198-00031 | Turfcare Fertilizer 18-3-5 with Dursban
009198-00037 | Tee Time Fertilizer 20-4-10 with Benefin/dursban
009198-00040 | Fortify Fertilizer with 0.92% Balan
009198-00043 | Turf Care for Southern Lawns 0.47% Chloropyrifos
009198-00044 | The Andersons Turf Food with 3.75% Diazinon
009198-00048 | Andersons Weed Killer 0.63% 2.4-D and 0.60% MCPP
009198-00051 | Andersons “Two In One” Lawn Food Plus Crabgrass Preventer 16-4-8
009198-00052 | Andersons Crabgrass Preventer
009198-00055 | Anderson's Weed and Feed 20-6-10 contains 2,4-D
009198-00056 | Pel-Tech Benefin Concentrate 10
009198-00057 | Pel-Tech Benefin Concentrate 15
009198-00058 | Pel-Tech Benefin Concentrate 20
009198-00059 | Pel-Tech Benefin Concentrate 25
009198-00061 | Turf Care Lawn Insecticide 2% Diazinon
009198-00067 | K-Mart Crabgrass Preventer 25-3-3 with Benefin
009198-00072 | Custom Mix 20-4-10 with Betasan
009198-00073 | Custom Mix 25-6-10 with Betasan
009198-00080 | Anderson Tee Time 20-4-10 with 1.04 Balan
009198-00081 | Tee Time Fertilizer 20-4-10 with 1.15 Balan
009198-00086 | Anderson Pre-Emergence Crabgrass Preventer with Balan (1.72%)
009198-00092 | Greensweep Spray-On Liquid Weed and Feed for Southern Lawns
009198-00093 | Greensweep Spray-On Liquid Weed and Feed for Northern Lawns
009198-00102 | The Andersons Tee Time 25-3-8 with 0.87% Team/0.58% Dursban
009198-00108 | The Andersons Fertilizer with 1.0% Team
009198-00116 | Twin Light Granular Lawn Insecticide with Dursban
009198-00119 | The Andersons Turcam Insecticide II
009198-00126 | Twin Light Crabgrass Preventer with Tupersan
009198-00128 | Twin Light Balan 2.5% Granular
009198-00131 | Andersons Fertilizer with 1.54% Team
009198-00133 | The Andersons 0.222% Dursban Brand Insecticide
009198-00134 | The Andersons Fire Ant II with Turcam
009198-00135 | The Andersons Fire Ant I with Turcam
009198-00136 | The Andersons 0.25% Dursban Brand Insecticide
009198-00138 | The Andersons 2.32% Dursban Brand Insecticide
009198-00139 | The Andersons Pest Arrest Lawn Insecticide I
009198-00141 | The Andersons Pest Arrest Fire Ant Killer
009198-00142 | The Andersons Pest Arrest Flea and Tick Killer
009198-00143 | The Andersons Pest Arrest Lawn Insecticide II
009198-00144 | The Andersons Fertilizer with 4.55% Sevin
009198-00145 | The Andersons 6.3% Granular Sevin
009198-00147 | The Andersons Pest Arrest 5% Dust
009198-00148 | The Andersons Pest Arrest 10% Dust
009215-00002 | All-Clear 3 Granular Swimming Pool and Spa Sanitizer
009250-00004 | United 62
009250-00007 | United 64 Disinfectant Sanitizer Deodorizer Concentrate
009250-00010 | United 91 Concentrated Swimming Pool Algaecide
009250-00015 | United 85 Weed and Brush Killer
009250-00030 | United 481 Ground Zero
009402-00004 | Kimberly-Clark Fly Repellent Wipes
009402-00005 | Kimberly Clark Flea and Tick Wipe
009404-00002 | 50% Malathion
009404-00062 | Sunniland Diazinon 5% Granules
009630-00015 | M-Gard S540
009630-00017 | M-Gard W540
009630-00026 | M-Gard G540
009688-00043 | Ant and Roach Killer B
009688-00044 | Ant and Roach Killer I
009688-00045 | Ant and Roach Killer II
009688-00046 | Ant and Roach Killer III
009688-00074 | Chemsico Extra Strength Microencapsulated Ant and Roach Killer
009688-00097 | Chemsico Multi-Purpose Fungicide A
009886-00003 | Unipine 8510
009886-00005 | Unipine 8050
010031-00008 | Sebesta's Pocket Gopher Oats
010098-00008 | Ler-Chlor
010098-20004 | Lerro Bleach
010107-00042 | Sevin 4L Insecticide
010107-00094 | Seed Shield Potato Seed Treater
010107-00097 | Seed Shield Potato Seed Treater No. 7.5 with Bark
010107-00141 | Majestic Green Dormant Oil Spray Concentrate
010147-20002 | 10-Chlor
010147-20004 | Bi-Clor-Rite
010163-00177 | Prokil Parathion 8
010182-00141 | Tornado Herbicide
010182-00171 | Ordram 6E
010182-00174 | Ordram 10-G
010182-00294 | Chevron Folpet Technical
010182-00421 | Twister Herbicide
010182-00423 | Bp-1007 Film Fungicide
010250-00003 | Hempel's Antifouling Pacific 7609-5000 Red
010350-00033 | Tralomethrin 10 MEC Manufacturing Use
010350-00038 | Duratrol Plus Household Flea Spray with Nylar
010350-00040 | Concentrated Sectrol
010369-00004 | Shock-King
010370-00021 | Ford's Roach and Ant Spray
010370-00037 | Ford's Dursban 2E
010370-00059 | Ford's Control Plus Roach Spray
010370-00064 | Ford's Dursban 1-E
010370-00086 | Ford's Dursban Plus Dust Insecticide
010370-00140 | Chlor-Phos Termite Concentrate
010370-00141 | Ford's Fire Ant 2.5G Insecticide
010370-00142 | Ford's Dursban Fire Ant 10% Granular Insecticide
010370-00222 | Ford's Ultra S.S.C 12-2.5
010370-00264 | Durs-Bait for Mole Crickets
010464-00002 | Chlorine
010827-00029 | Formula 250
010827-00032 | Ind-Sol 50 Herbicide
010827-00039 | Ind-Sol LT-2 Weed Control
010827-00046 | Formula VM-2
010827-00066 | Dichloro-Sol
011200-00004 | Action D 1702 Disinfectant Cleaner-Sanitizer
011200-00016 | #1721 Mint-O-Quat
011200-00017 | #1610 Quat Guard
011275-00002 | Lithate (r) 2,4-D Broadleaf Weed Killer Non-Volatile
011350-00026 | 2133 Vinyl Antifouling Red Mil-P-15931 E Formula 121, Class 1
011350-00027 | 2335 Vinyl Antifouling Black Mil-P-15931 E Formula 129, Class 1
011474-00002 | Sanitiz-It
011474-00017 | Sungro A.m.s. Woody Brush and Weed Killer
011623-00028 | Barrier Residual Insecticide
011678-00004 | Cotnion-Methyl Azinophos Methyl Technical 85d
011684-00002 | Jirdon Lawn Fertilizer containing Dacthal Herbicide 12-10-4
011694-00065 | Syntha Mist
011694-00104 | Indoor/outdoor Insecticide
011715-00087 | Speer E-Z Way Indoor Fogger
011715-00218 | Farnam Rat Tube with Havoc
011725-00004 | TEK SF 2 Super Fog Insecticide Spray
011853-00004 | Steri-Zone Disinfectant
013283-00007 | Rainbow Telco and Power Wasp and Hornet Spray
013555-00001 | Matey Disinfectant Fungicide Clearner Deodorizer
013555-00005 | Val-Soft B 10%
013799-00028 | Four Paws Indoor Fogger II
015297-00018 | Bio Groom Yard and Kennel Concentrated Residual Spray
018910-00006 | Basilit B-85
019713-00079 | Atrazine Plus Linuron
020642-20001 | Hbh Sodium Hypochlorite Solution
021164-00013 | O-C San-Q No. 1
021164-00014 | O-C San-Q No. 2
021164-00015 | O-C San-Q No.3 Microbiocide
021164-00017 | O-C F-130
021164-00019 | Eclipse P
021164-00020 | Akta Klor 37
021164-00022 | Macsan
021164-00023 | Organic Sanitizer
021164-00025 | Super Chlor
022558-00002 | First U S Microbiocide 15
024909-00007 | Formula K-5 Insect Spray
028293-00078 | Unicorn Pressurized Fogger
028293-00097 | Unicorn Wasp Killer
028293-00165 | Unicorn Household Fogger
028293-00188 | Unicorn Fogger #6
028293-00194 | Unicorn Fire Ant Injector Aerosol
029964-00002 | Flowable Captan Seed Protectant
030950-00007 | Diazinon 25% Emulsifiable Concentrate
032970-00004 | D-Trans No. 5 Vaporizer Insect Spray
033003-00003 | Quat-479
033912-00002 | Wagnol 40 57% Malathion Lawn and Ornamental Garden Spray Concentrate
033955-00408 | Acme Fruit Tree Spray
033955-00450 | Acme Sevin 50 W
033955-00537 | Acme Chinchbug Spray
033955-00541 | Acme Dursban Granular Insecticide
033955-00544 | Acme Diazinon Granules Lawn Insect Control
033955-00546 | Acme Ant Granules contains Diazinon Insecticide
033955-00548 | Acme Dursban Insecticide 8.70%
033955-00554 | Acme Stopit Crabgrass Preventer
033955-00555 | Acme Bendiocarb 1% Homeowner Dust
034346-00001 | Fly-Off Spray or Wipe
034346-00002 | Fly-Off Concentrate
034702-00002 | House and Garden Insect Killer 11156
034702-00004 | Crawling Insect Killer 11307
034704-00042 | Clean Crop Thiram Seed Protectant
034704-00044 | Clean Crop Pcnb Seed Treater
034704-00149 | Captan 7.5 Dust
034704-00301 | Hopkins Lannabait Methomyl Insecticide
034704-00437 | Clean Crop Turcam 2.5G Insecticide
034704-00567 | Hopkins 25% Captan Seed Protectant
034704-00649 | Captan 300 Flowable Seed Protectant
034704-00650 | Captan-Methoxychlor 300-20 Undyed Flowable Seed Protectant
034704-00651 | Captan 70-WP Seed Protectant
034704-00652 | Captan-Methoxychlor 75-3 WP Seed Protectant
034704-00655 | Captan 300-DD Flowable Seed Protectant
034704-00659 | Captan 300 Undyed Flowable Seed Protectant
034704-00660 | Thiram-Methoxychlor 70-2WP Seed Protectant
034704-00661 | Thiram 50 Planter Box Seed Treater
034704-00663 | Thiram 50wp Undyed
034704-00664 | Thiram 42% Dyed Flowable Seed Protectant
034704-00665 | Thiram 42% Undyed Flowable Seed Protectant
034704-00666 | Thiram 30% Dyed Flowable Seed Protectant
034704-00667 | Thiram 30% Undyed Flowable Seed Protectant
034704-00677 | Demosan 30-D Planter Box Seed Treater
034704-00678 | Chlorovax 300 Undyed Flowable Seed Protectant
034704-00679 | Pcnb + Liquid Seed Treater
034704-00680 | Pcnb 2EC-LF Liquid Seed Treater
034704-00710 | Holdem Insecticide-Nematicide
034704-00715 | Paraspray 6-3
034704-00717 | Paraspray 8-E
034704-00738 | Casoron G-4 Herbicide
034810-00017 | Wexford Dri-Cide
034822-00005 | Di-All Mc-2 Mildewcide
034859-00006 | WC-220 Sanitizer
034892-00004 | Russall Weed Killer #1
035512-00022 | Turf Pride with .8% Oftanol Insecticide
035931-20002 | High-Po-Chlor
036006-00023 | Wasp and Hornet Killer
036638-00026 | Technical Lycopersilure
038796-20001 | Aqua-Chlor
039697-00001 | Mountain High Diatomaceous Earth Insect Control
041875-00001 | Super Tropical Antifouling P-18
042750-00016 | Rhodia 2,4-D Gran 20
042836-00001 | Freedom Clear Dog Collar
042836-00003 | Freedom Clear Cat Collar
043216-20001 | Sodium Hypochlorite Solution
043670-00002 | Macroseptic
043670-00003 | Intersept PC-10
044446-00049 | Davis Kill-A-Bug
044751-00002 | NSA Bacteriostatic Water Treatment Unit, Model 100s
045600-00015 | Insecta 1002
045722-00001 | Rat Toxin
045869-00001 | Chlorine Liquified Gas Under Pressure
046270-20003 | Sodium Hypochlorite 9.2%
046515-00028 | Super K-Gro Fire Ant Mound Drench
047319-00001 | Sevana Bird Repellent
047319-00004 | Agrigard Insect Repellent
047629-00002 | Roach Bait Systems
048172-00001 | Sunshine's Whirlpool Detergent/disinfectant
048211-00048 | Swat Dri
048302-00001 | AF-Seafloz-100
048482-20006 | Genchlor - 65(TM)
048920-00001 | Herpicide Spray
049357-00001 | Bio Treat 180
049488-00001 | Guard 75
050383-00006 | Wilson's Slug Bait Pellets
050383-00009 | Wilson Dormant Oil Spray
050383-00010 | Wilson Lucky Sevin 22.5%
050383-00014 | Wilson Malathion 50% Insect Spray
050383-00016 | Wilson Lucky Sevin Dust
050383-00034 | Lucky Strike Weed Buster
050383-00044 | Wilson Green Earth Vegetable and Flower Spray
050534-00116 | Tuffcide 750G
050534-00157 | Bravo 90 DG
050534-00159 | Bravo S
050534-00161 | Bravo Flowable Fungicide
050534-00189 | Chlorothalonil 75 WP
050534-00191 | Bravo C/M
050534-00195 | Daconil 2787 WDG
050534-00205 | Bravo W-75 WSB
050534-00206 | Dacobre DG Agricultural Fungicide/bactericide
050534-00207 | Daconil 2787 WSB
050534-00219 | Dacobre (chlorothalonil)
050591-00016 | Flea and Tick Aqua Mist
050640-00001 | Dichlor - 15
051463-20204 | Power House Roach Killer
051934-00001 | Ellisco Double-Lure Japanese Beetle Bait
052200-00008 | Greensward 2.32% Dursban Granular Insecticide
053128-00001 | Paramax Water Bath Stabilizer
053254-00002 | Dichlorocyanuric Acid, Sodium Salt (sodium Dichloro-S-Triazinetrione)
053575-00001 | Isomate M Pheromone
053651-20205 | Boric Acid
053883-00030 | Martin's Eraser Glyphosate Concentrate Herbicide
054625-00001 | Brita Filter
054739-20004 | Sani 3000
055146-00002 | Champion Flowable
055146-00004 | Champion SD
055146-00044 | Champion 50 WDG
055146-00063 | Bsc Flowable
055195-00005 | Coldcide—25 Microbiocide Concentrate
056076-00003 | Special Delivery Crabgrass Preventer
056095-00002 | Cide-Swipes C-100A
056095-00004 | Cide-Swipes P-100B
056392-00006 | Citrair Hospital Germicide and Air Refreshner
056575-00005 | Natrapel Insect Repellent
056575-00006 | Natrapel Insect Repellent Lotion
057091-00002 | Biocare 90-T 3” Tablets
057091-00003 | Biocare 90-T 1” Tablets
057091-00004 | Biocare 90-T Sticks
057538-00008 | That Big 8 Flowable Sulfur
058007-00002 | 3M Ultrathon Spray Insect Repellent (9.55%)
058007-00003 | 3M Ultrathon Spray Insect Repellent
058007-00004 | Ultrathon Insect Repellent
058716-00003 | Pest Stopper Pack II
059144-00018 | Lawn and Garden Fungicide
059509-00001 | Horse Power Formula Z 2001 Bug Killer
059597-00001 | Niachlor Chlorine
059906-00002 | Py-Tech 2.25% + 22.5%
061483-00010 | Creosote P3
061966-00006 | Carpet Freshener with Pet Guard
062575-00002 | Biesterfeld Lindane 75W Seed Treatment
064005-00001 | Pur Traveler
064240-00010 | Combat Roach Control System Formula 18984
064248-00004 | Maxforce Roach Control System Formula 18984
064296-00002 | Bio-Path Insects Technical
064396-00001 | Dia Flea-Mate
064721-00001 | Supernatural Brand D-E Insecticide
064721-00002 | Supernatural Brand Plant Protection Insecticide
064864-00029 | Nutra-Spray Copophos
064864-00030 | Leffingwell Nutra-Spray Az 17 1/2-Mn4-Cu4
064872-00004 | Green-Sol Sul-15 Plus Home and Garden
065560-00004 | Sodium Hypochlorite 5.25%
066070-00001 | True Stop Insecticide
066232-00001 | Swim Kleer
066306-00013 | Germ Assault
066330-00001 | Captan 75 Seed Protectant
066330-00002 | Stauffer Captan 65 Seed Protectant
066330-00004 | Captan-Methoxychlor 75-5 Seed Protectant
066330-00005 | Captan Sprills Seed Protectant Fungicide
066330-00006 | Captan Methoxychlor 75-3 Seed Protectant
066330-00007 | Captan Methoxychlor Seed Protectant
066330-00008 | Captan Methoxychlor 65-10 Seed Protectant
066330-00010 | Captan 10 Dust
066330-00012 | Captan Moly Soybean Seed Protectant with Molybdenum
066330-00013 | Captan 75 Seed Protectant Dust (fungicide)
066330-00016 | Captan 7.5 Dust Fungicide
066330-00023 | Captan 4 Flowable
066330-00033 | Chevron Captan Technical
066524-00002 | Nomix Grass and Weed I Herbicide
066963-00003 | Espree General Purpose Aqueous Insecticide
066963-00004 | Espree Flea and Tick Dip II
066963-00007 | Espree Concentrated Pet Shampoo
067003-00010 | T.i.c.a. 3” Tablets
067020-00001 | Flea Control for Carpets
067262-00007 | Aqua Chem Balanced for Clean Spas Stabilized Granules
067262-00009 | Aqua Chem Balanced for Clean Pools Stabilized Floater
067262-00011 | Aqua Chem Balanced for Clean Pools Granular Chlorinizor
067262-00013 | Aqua Chem Balanced for Clean Pools Stabilized Cartridge
067262-00014 | Aqua Chem Balanced for Clean Spas Shock Treatment
067262-00019 | Vinyl Pool Algae Killer
067572-00010 | R and M Lawn Spray Concentrate #2
067572-00011 | R and M Permethrin Flea and Tick Dip #1
067572-00013 | R and M Carpet Powder #15
067572-00017 | R and M Flea and Tick Spray #7
067572-00024 | R and M Carpet Powder #13
067572-00039 | R and M 30-3 Pyrethrin E.C.
067572-00041 | R and M Permethrin .50% Spray
067572-00045 | R and M IGR Flea and Tick Carpet Spray
067572-00046 | R and M IGR Aerosol Flea and Tick Carpet Spray
067572-00047 | R and M IGR Fogger for Fleas
067572-00048 | R and M Igr 1.3% E.c. for Fleas
067572-00050 | R and M Aqueous Residual Flea and Tick Spray #12
067572-00062 | Cp Dormant Spray Oil
067572-00074 | Cp Home and Garden Fungicide
067572-00078 | Cp Snail and Slug Killer Pellets
067867-00001 | Buggspray 100 Insect Repellent
068119-00019 | Actellic 5e Insecticide
068182-00012 | Bio-Save 10 Biological Fungicide
068182-00014 | Bio-Save 11 Biological Fungicide
068305-20001 | 12.5% Sodium Hypochlorite (ox-It-All)
068401-00003 | Frontier Rat and Mouse Killer
068687-00001 | 3807 Red Oxide Vinyl Anti-Fouling Paint
068687-00003 | 7068 Red Oxide C.R. Anti-Fouling Paint
068687-00004 | 7067 Purple Oxide C.R. Anti-Fouling Paint
068687-00006 | 7067 HS Purple C.R. Anti-Fouling Paint
068687-00007 | 7068 HS Red Oxide C.R. Anti-Fouling Paint
068719-00001 | Wood's Ready To Use Rooting Compound
069468-00001 | Arco Fast 37W Microbiocide
069468-00002 | Arco Fast 49W Microbiocide
069468-00003 | Arco Fast 54W Microbiocide
069468-00004 | Formaldehyde Solution 54
069473-20001 | Coastal Premium Chlorinating Solution
069473-20002 | Coastal Concentrated Chlorinating Solution
069473-20003 | Coastal Standard Chlorinating Solution
069473-20004 | Coastal Bleach
069579-00001 | Foli-R-Fos 400
069720-00002 | Industrial Compactor Insecticide
069720-00003 | Corbin Food Plant Fogging Spray Insecticide
069798-00001 | Liquefied Chlorine Gas Under Pressure
070051-00029 | Daza Technical
070051-00035 | Decoy PBW Stakes
070051-00055 T | huricide-32b
070166-00007 | Naa 800
070166-00008 | Naa 200
070166-00009 | Termilind Technical Naphthaleneacetic Acid
070419-00001 | Calcium Hypochlorite 65%
070424-00001 | Spray-Pak House and Garden Insect Killer
070424-00002 | Spray-Pak Ant and Roach Killer
070451-00001 | Wipe Out 1
070451-00002 | Wipe Out 2
070598-00001 | Liquefied Chlorine Gas
070810-00004 | Auxigro Next Gen SG Wettable Powder
071044-00001 | WKNS-8
071085-00007 | Propanil 60% WDG Herbicide
071085-00008 | Crystal Propanil-4E
071085-00010 | Propanil Technical
071085-00011 | Propanil 4
071085-00012 | Propanil 3
071085-00014 | Propanil 80 EDF
071096-00002 | Or-Cal Lindane 400
071146-00001 | CNM Brand
071206-00001 | Tompkins Weedless Mulch
071240-00002 | Add-X
071271-00001 | Smite EC
071327-00001 | Vereengro Plus Weed Killer
071505-00001 | All Star Roach Killer
071707-00001 | Stim-Tek Crop Biostimulant
072315-00007 | Potassium Hypochlorite
072315-00008 | Olin 65% Lithium Hypochlorite
072315-00009 | Hypochlorous Acid
072546-00001 | Sulfuric Acid-Potato Vine Desiccant
072674-00006 | Proxel BD
072674-00007 | Proxel CRL
072674-00008 | Proxel PL
072674-00010 | Proxel HL
072674-00013 | Reputain
072674-00021 | Baquacide 795

IV. Public Docket

Complete lists of registrations canceled for non-payment of the maintenance fee will also be available for reference during normal business hours in the OPP Public Docket, Rm. 119, Crystal Mall 2, 1921 Jefferson Davis Highway South, Arlington VA, and at each EPA Regional Office. Product-specific status inquiries may be made by telephone by calling toll-free 1-800-444-7255.

List of Subjects

Environmental protection, Agricultural commodities, Pesticides and pests.

Dated: August 25, 2000.
Joseph J. Merenda,
Acting Director, Office of Pesticide Programs.

[FR Doc. 00-22819 Filed 9-5-00; 8:45 am]

BILLING CODE 6560-50-F